DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Army Corps of Engineers (USACE).

SUMMARY: The FHWA, on behalf of Caltrans, is issuing this notice to announce actions taken by Caltrans, and U.S. Army Corps of Engineers (USACE) that are final within the meaning of 23 U.S.C. 139(l)(1). The actions relate to a proposed highway project, Interstate 80/Interstate 680/State Route 12 Interchange Project. The project is located in the vicinity of the city of Fairfield in Solano County, California along 13 miles of highway on I-80, I-680 and State Route 12 (Post Miles SOL-80 (PM 10.8/17.0); SOL-680 (PM 10.0/13.1); SOL-SR 12 (PM 1.7/L2.8); and SOL-SR 12 (PM L1.8/4.8). Those actions grant licenses, permits, and approvals for the project.

DATES: By this notice, the FHWA, on behalf of Caltrans, is advising the public of final agency actions subject to 23 U.S.C.139 (l)(1). A claim seeking judicial review of the Federal agency actions on the highway project will be barred unless the claim is filed on or before August 14, 2014. If the Federal law that authorizes judicial review of a claim provides a time period of less than 150 days for filing such claim, then that shorter time period still applies.

FOR FURTHER INFORMATION CONTACT: Valerie Shearer, District Branch Chief, Caltrans District 4 Office of Environmental Analysis, 111 Grand Avenue, P.O. Box 23660, Oakland, CA 94623-0660, 8:00 a.m.-5:00 p.m., Pacific Standard Time, Telephone (510) 286-5594, email valerie_shearer@dot.ca.gov. The U.S. Army Corps of Engineers (USACE), Attn: Ms. Jane Hicks, Regulatory Division, U.S. Army Corps of Engineers, 1455 Market Street, 16th Floor, San Francisco, California 94103-1398 8:00 a.m.-5:00 p.m. Pacific Standard Time.

SUPPLEMENTARY INFORMATION: Effective July 1, 2007, the Federal Highway Administration (FHWA) assigned, and the California Department of Transportation (Caltrans) assumed environmental responsibilities for this project pursuant to 23 U.S.C. 327. Notice is hereby given that Caltrans, and U.S. Army Corps of Engineers (USACE) has taken final agency actions subject to 23 U.S.C. 139(l)(1) by issuing licenses, permits, and approvals for the Interstate 80/Interstate 680/State Route 12 Interchange Project. The proposed project involves improvements on an approximately 6.2-mile-long segment of I-80 between Red Top Road and Abernathy Road, an approximately 3.1-mile-long segment of I-680 between Gold Hill Road and I-80, a 1.1-mile-long segment of SR 12 West (SR 12W) between 0.5 mile west of Red Top Road and I-80, and an approximately 3.0-mile-long segment of SR 12 East (SR 12E) between I-80 and Main Street in Suisun City. Within the limits of the project area, I-80 is a six to ten lane freeway. SR 12E is a divided four-lane highway, I-680 is a four-lane freeway, and SR 12W is an undivided two-lane highway. The actions by the Federal agencies, and the laws under which such actions were taken, are described in the Final Environmental Impact Statement (FEIS) for the project, approved on October 12, 2012, in the Record of Decision (ROD) issued on December 07, 2012 and in other documents in project records. The FEIS, ROD, and other project records are available by contacting Caltrans at the addresses provided above. The Caltrans FEIS can be viewed and downloaded from the project Web site at http://www.dot.ca.gov/dist4/envdocs.htm. The U.S. Army Corps of Engineers (USACE) decision and permit SPN-2007-400401S are available by contacting USACE at the address provided above.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)].

7. Wetlands and Water Resources: Clean Water Act (Section 404, Section 401, Section 319) [33 U.S.C. 1251-1377]; Safe Drinking Water Act (SDWA) [42 U.S.C. 300(f)-300(j)(6)].

8. Executive Orders: E.O. 11990 Protection of Wetlands; E.O. 11988 Floodplain Management; E.O. 12898 Federal Actions To Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Vincent P. Mammano,
Division Administrator, Federal Highway Administration, Sacramento, California.

[FR Doc. 2014-05764 Filed 3-14-14; 8:45 am]

BILLING CODE 4910-RY-P